DEPARTMENT OF THE INTERIOR

National Park Service

Ellis Island Development Concept Plan, Final Environmental Impact Statement, Statute of Liberty National Monument and Ellis Island, New York and New Jersey

AGENCY: National Park Service, Department of the Interior.

ACTION: Notice of Availability of Final Environmental Impact Statement for Ellis Island Development Concept Plan, Statute of Liberty National Monument and Ellis Island.

SUMMARY: Pursuant to National Environmental Policy Act of 1969, 42 U.S.C. 4332(2)(C), the National Park Service announces the availability of a Final Environmental Impact Statement for the Ellis Island Development Concept Plan, Statute of Liberty National Monument and Ellis Island, New York and New Jersey. The primary purpose of the FEIS is to finalize the documentation of the environmental consequences of alternative management strategies for the rehabilitation and adaptive reuse of 30 deteriorating buildings on Ellis Island, and the limited service and emergency access that are described in the preferred alternative of the Development Concept Plan.

The Development Concept Plan/Final Environmental Impact Statement (DCP/FEIS) evaluates three (3) alternatives regarding the future of the vacant historic buildings of Ellis Island. “Alternative 1: No Action—Continutation of Existing Management Direction,” describes the conditions after only temporary stabilization of the buildings and the existing vehicular service bridge. The eventual result of the no action alternative is the complete or near-complete loss of these resources as the effects of temporary stabilization expire. This alternative provides the basis of comparison to judge the potential impacts of the two “action” alternatives. Both action alternatives would include a new service bridge to New Jersey for emergency and service vehicles; the no action alternative would not. “Alternative 2: Ellis Island Partners—Day Use Only,” describes conditions that would result after the buildings are rehabilitated as a campus for multiple non-profit/institutional uses complimenting the historic of Ellis Island “Alternative 3: Ellis Island Institute with Overnight Accommodations” (the preferred alternative), describes the conditions if the buildings were rehabilitated as an educational, non-profit institute with an associated conference/retreat center. The facilities would include overnight accommodations to host meetings, retreats, and workshops primarily focusing on issues such as immigration, world migration, public health, family history, historic preservation, and the environment. The preferred alternative would accomplish the goals and objectives set forth in the NPS 1982 Statute of Liberty National Monument General Management Plan which identified several major buildings on the north side of the island for rehabilitation and reuse by the NPS for interpretation, visitor services and administration (subsequently completed utilizing private funds raised by the Statue of Liberty-Ellis Island Foundation), and proposed that the balance of the buildings on the island, including all of the south-side buildings, be preserved on the exteriors and adapted for reuse by either the NPS or a private organization under a lease agreement or concession contract.

The DCP/FEIS documents the project's requirements to comply with NPS Director's Order 21 and the Partnership Construction Process, as well as the requirement for additional analysis to confirm the economic and programmatic viability of the proposed action. The results of these studies will guide the scope, design and build-out of this project. If the project is determined by the NPS to not be economically feasible, the NPS will consider alternatives for management of Ellis Island taking into account the information gained from said market analysis and feasibility studies and other facts then available. This further consideration of alternatives will be conducted in accordance with applicable requirements of the National Environmental Protection Act and the National Historic Preservation Act (as amended).

The release of the Development Concept Plan/Draft Environmental Impact Statement in June 2003, and publication of the Notice of Availability in the Federal Register on June 25, 2003 began a 60-day review period of the draft document. During that review period, the National Park Service held two public meetings to provide agencies and the public an opportunity to comment on the draft document. During the public comment period on the draft document, comments were received in the form of letters, cards, and emails. Written and verbal comments were submitted at public hearings. All substantive comments have been addressed in the “Consultation and Coordination” chapter of the DCP/FEIS.

DATES: The National Park Service will execute a Record of Decision (ROD) no sooner than 30 days following publication by the Environmental Protection Agency of the Notice of Availability of the Final Environmental Impact Statement. Availability of the ROD will be noticed in the Federal Register and the NPS will subsequently move forward with the NPS' Partnership Construction Process and other required reviews for a partnership project. Following the ROD, the NPS will also begin consultation, planning and environmental analysis for the permanent bridge.

ADDRESSES: Information will be available for public inspection on line at http://parkplanning.nps.gov and in the offices of the Superintendent, Statute of Liberty NM and Ellis Island, Liberty Island, New York, NY 10004, where copies of the document are available in print and on compact disc.

FOR FURTHER INFORMATION CONTACT: Superintendent, Statute of Liberty National Monument and Ellis Island, Ellis Island Receiving Office, Jersey City, NJ 07305. (212) 3663-3206) Ext. 100), Cynthia_garrett@nps.gov.

Dated: January 25, 2007.
Dennis R. Reidenbach,
Acting Regional Director, Northeast Region, National Park Service.

[FR Doc. 07-1479 Filed 3-26-07; 8:45 am]

BILLING CODE 4310-6E-M